DEPARTMENT OF ENERGY

Federal Energy Regulatory Commission

18 CFR Part 40

[Docket No. RM08-11-000]

Version Two Facilities Design, Connections and Maintenance Reliability Standards

AGENCY: Federal Energy Regulatory Commission.

ACTION: Final rule: correction.

SUMMARY: This document corrects compliance filing deadline errors in a Final Rule that the Federal Energy Regulatory Commission published in the Federal Register on March 30, 2009. That action approved three revised Reliability Standards developed by the North American Electric Reliability Corporation (NERC), designated by NERC as FAC-010-2, FAC-011-2 and FAC-014-2, which set requirements for the development and communication of system operating limits of the Bulk-Power system for use in planning and operation horizons.

DATES: Effective Date: April 29, 2009.

FOR FURTHER INFORMATION CONTACT: Cory Lankford (Legal Information), Office of the General Counsel, Federal Energy Regulatory Commission, at (202) 502-6711.

SUPPLEMENTARY INFORMATION: In FR Document E-9-6823, published March 30, 2009 (74 FR 14008), make the following corrections to compliance filing dates:

1. On page 14014, column 2, the last sentence of paragraph 50 is corrected to read: “The ERO shall submit its revisions to the Commission within 30 days from the effective date of this final rule, as discussed above and as indicated in Attachment A.”

2. On page 14016, column 1, the last sentence of paragraph 65 is corrected to read: “The ERO shall submit its revisions to sub-requirements R4.1 through R4.3 to the Commission within 30 days of the effective date of this final rule, as discussed above and as indicated in Attachment A.”

3. On page 14016, column 2, the last sentence of paragraph 71 is corrected to read: “The Commission therefore adopts the NOPR proposal agreed to by NERC and directs the ERO to file revised violation severity levels for FAC-011-2, Requirements R3 within 30 days of the effective date of this final rule, as discussed above and as indicated in Attachment A.

4. On page 14017, column 1, the last sentence of paragraph 75 is corrected to read: “The ERO shall submit its revisions to sub-requirements R4.1 through R4.3 to the Commission with 30 days of the effective date of this final rule, as discussed above and as indicated in Attachment A.”

Kimberly D. Bose,
Secretary.

[FR Doc. E9-9169 Filed 4-21-09; 8:45 am]

BILLING CODE P